DEPARTMENT OF DEFENSE

Office of the Secretary

[Transmittal No. 18-33]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(1) arms sales notification is published to fulfill the requirements of section 155 of Public Law 104-164 dated July 21, 1996. The following is a copy of a letter to the Speaker of the House of Representatives, Transmittal 18-33 with attached Policy Justification and Sensitivity of Technology.

Dated: September 18, 2018.
Shelly E. Finke,
Alternate OSD Federal Register Liaison Officer, Department of Defense.

BILLING CODE 5001-06-P

BILLING CODE 5001-06-C

Transmittal No. 18-33

Notice of Proposed Issuance of Letter of Offer Pursuant to Section 36(b)(1) of the Arms Export Control Act, as amended

(i) Prospective Purchaser: Government of Latvia

(ii) Total Estimated Value:

Major Defense Equipment * | $85 million
Other | $115 million
TOTAL | $200 million

(iii) Description and Quantity or Quantities of Articles or Services under Consideration for Purchase:

Major Defense Equipment (MDE):

Four (4) UH-60M Black Hawk Helicopters in standard USG configuration with designated unique equipment and Government Furnished Equipment (GFE)

Ten (10) T700-GE-701D Engines (8 installed and 2 spares)

Ten (10) Embedded Global Positioning Systems/Inertial Navigation Systems (8 installed and 2 spares)

Non-MDE:

Also included is one (1) Aviation Mission Planning System, five (5) Talon Forward Looking Infrared Radar (FLIR) (4 production and 1 spare), ten (10) AN/ARC-201D/E (8 production and 2 spares), ten (10) AN/ARC-231 radios (8 production and 2 spares), five (5) AN/APX-123A Identification Friend or Foe (IFF) transponder (4 production and 1 spare), five (5) AN/ARC-220 Radio (4 production and 1 spare), twenty (20) AN/AVS-6 Helmet Mounted Night Vision Devices, aircraft warranty, air worthiness support, spare and repair parts, support equipment, communication equipment, publications and technical documentation, personnel training and training equipment, ground support equipment, site surveys, tool and test equipment, U.S. Government and contractor technical and logistics support services, and other related elements of logistics and program support.

(iv) Military Department: Army (LG-B-UDM).

(v) Prior Related Cases, if any: None.

(vi) Sales Commission, Fee, etc., Paid, Offered, or Agreed to be Paid: None.

(vii) Sensitivity of Technology Contained in the Defense Article or Defense Services Proposed to be Sold: See Attached Annex.

(viii) Date Report Delivered to Congress: August 3, 2018.

* As defined in Section 47(6) of the Arms Export Control Act.

POLICY JUSTIFICATION

Latvia—UH-60M Black Hawk Helicopters

The Government of Latvia has requested to buy four (4) UH-60M Black Hawk helicopters in standard USG configuration with designated unique equipment and Government Furnished Equipment (GFE), ten (10) T700-GE-701D engines (8 installed and 2 spares), ten (10) Embedded Global Positioning Systems/Inertial Navigation Systems (8 installed and 2 spares). Also included is one (1) Aviation Mission Planning System, five (5) Talon Forward Looking Infrared Radar (FLIR) (4 production and 1 spare), ten (10) AN/ARC-201D/E (8 production and 2 spares), ten (10) AN/ARC-231 radios (8 production and 2 spares), five (5) AN/APX-123A Identification Friend or Foe (IFF) transponder (4 production and 1 spare), five (5) AN/ARC-220 Radio (4 production and 1 spare), twenty (20) AN/AVS-6 Helmet Mounted Night Vision Devices, aircraft warranty, air worthiness support, spare and repair parts, support equipment, communication equipment, publications and technical documentation, personnel training and training equipment, ground support equipment, site surveys, tool and test equipment, U.S. Government and contractor technical and logistics support services, and other related elements of logistics and program support. The estimated total case value is $200 million.

This proposed sale will support the foreign policy and national security of the United States by helping to improve the security of a NATO ally. These UH-60 helicopters will allow for interoperability with U.S. and NATO forces in rapid response to a variety of missions, and quick positioning of troops with minimal helicopter assets.

The sale of these UH-60 helicopters to Latvia will significantly increase its capability to provide troop lift, border security, anti-terrorist, medical evacuation, search and rescue, re-supply/external lift, and combat support in all weather. Latvia intends to use these helicopters to modernize its armed forces and expand its existing Army architecture in its efforts to provide multi-mission support in the region. Latvia will have no difficulty absorbing these helicopters into its armed forces.

The proposed sale of this equipment and support will not alter the basic military balance in the region.

The prime contractors will be Sikorsky Aircraft Company in Stratford, Connecticut; and General Electric Aviation Company (GEAC) in Lynn, Massachusetts. There are no known offset agreements in connection with this potential sale.

Implementation of this proposed sale may require the assignment of an additional three U.S. Government and five contractor representatives in country full-time to support the delivery and training for approximately two-to-five years.

There will be no adverse impact on U.S. defense readiness as a result of this proposed sale.

Transmittal No. 18-33

Notice of Proposed Issuance of Letter of Offer Pursuant to Section 36(b)(1) of the Arms Export Control Act

Annex

Item No. vii

(vii) Sensitivity of Technology:

1. The UH-60M aircraft is a medium lift four bladed aircraft which includes two T-700-GE 701D Engines. The aircraft has four Multifunction Display (MFD), which provides aircraft system, flight, mission, and communication management systems. The instrumentation panel includes four Multifunction Displays (MFDs), two Pilot and Co-Pilot Flight Director Panels, and two Data Concentrator Units (DCUs). The Navigation System will have Embedded GPS/INS (EGIs), and two Advanced Flight Control Computer Systems (AFCC), which provide 4 axis aircraft control.

2. The H764-G EGI provides GPS and INS capabilities to the aircraft. The EGI will include Selective Availability Anti-Spoofing Module (SAASM) for secure GPS PPS if required. The EGI contains sensitive technology.

3. The AN/ARC-231, Very High Frequency/Ultra High Frequency (VHF/UHF), Line-of Sight (LOS) Radio with frequency agile modes, Electronic counter-countermeasures (ECCM), UHF Satellite Communications (SATCOM), Demand Assigned Multiple Access (DAMA), Integrated Waveform (IW), Air Traffic Control (ATC) channel spacing is operator selectable in 5, 8.33, 12.5, and 25kHz steps. The antennas associated with this radio contain sensitive technology.

4. The AN/APX-123A, Identification Friend or Foe (IFF) Transponder, is a space diversity transponder and is installed on various military platforms. When installed in conjunction with platform antennas and the Remote Control Unit (or other appropriate control unit), the transponder provides identification, altitude, and surveillance reporting in response to interrogations from airborne, ground-based, and/or surface interrogators. This item contains sensitive technology.

5. The AN/ARC-201D/E, Single Channel Ground to Air Radio System (SINCGARS), is a tactical airborne radio subsystem that provides secure, anti-jam voice and data communication. The integration of COMSEC and the Data Rate Adapter (DRA) combines three Line Replaceable Units into one and reduces overall weight of the aircraft.

6. The AN/ARN-149, Automatic Direction Finder (ADF) Receiver, is a low frequency radio that provides automatic compass bearing on any radio signal within the frequency range of 100 to 2199.5 kHz as well as navigation where a commercial AM broadcast signal is the only available navigation aid.

7. The AN/ARN-153, Tactical Airborne Navigation (TACAN) System, is a full featured navigational system that supports four modes of operation: receive mode; transmit receive mode; air-to-air receive mode; and air-to-air transmit-receive mode. The TACAN provides a minimum 500-watt transmit capability with selecting range ratios of 30:1 or 4:1 which is accomplished through the automatic gain control (AGC) enable/disable switch, the 1553 bus, or the RNAV (ARINC) input bus.

8. The AN/ARN-147, Very High Frequency (VHF) Omni Ranging/Instrument Landing System Receiver, that provides internal MIL-STD-1553B capability and is MIL-E-5400 class II qualified. It meets international operability requirements by providing 50-kHz channel spacing for 160-VOR and 40-localizer/glideslope channels.

9. The TALON Forward Looking Infrared Radar (TALON FLIR) is a compact multi-sensor thermal imaging system utilized for personnel recovery. Search and rescue missions are supported with the thermal imaging, daylight camera, and laser rangefinder payloads. Includes Joystick Control Unit (JCU).

10. AN/ARC-220, High Frequency (HF) Radio multifunctional, fully Digital Signal Processing (DSP) high frequency radio for rotary wing applications. Provides embedded Automatic Link Establishment (ALE), serial tone data modem, text messaging, GPS position reporting and anti-jam (ECCM) functions is Embedded ECCM and data modem.

11. EBC-406 (Emergency Locator Transmitter) is loaded with country unique codes (at delivery in country) that aid in the recovery of a down aircraft/personnel with a loud beeping tone and flashing LED. The ELT transmits on 406.028 MHz, the civil 121.5 MHz, and the military 243.0 MHz emergency frequencies.

12. AN/AVS-6 (Helmet mounted Night Vision Goggles) is a lightweight, binocular, night vision imaging system developed by the US Army specifically for helicopter flying. The system can be mounted to a variety of aviator helmets, including the SPH-4B, HGU-56P, HGU-55/P, HGU-55/G, HGU-26/P and Alpha. A 25mm eye relief eyepieces easily accommodate eyeglasses. Low-profile battery pack improves aviator head mobility and increases battery life. Other features include flip-up/flop-down capability, simple binocular attachment, individual interpupillary adjustment, tilt, vertical and fore-aft adjustments to fit all aviators.

13. If a technologically advanced adversary were to obtain knowledge of specific hardware, the information could be used to develop countermeasures which might reduce weapons system effectiveness or be used in the development of a system with similar or advanced capabilities.

14. A determination has been made that Latvia can provide substantially the same degree of protection for sensitive technology being released as the U.S. Government. This proposed sustainment program is necessary to the furtherance of the U.S. foreign policy and national security objectives outlined in the policy justification.

15. All defense articles and services listed on this transmittal are authorized for release and export to the Government of Latvia.

[FR Doc. 2018-20569 Filed 9-20-18; 8:45 am]

BILLING CODE 5001-06-P